DEPARTMENT OF LABOR

Employment and Training Administration

Comment Request for Information Collection for Employers Survey of the Short-Time Compensation Program (STC); New Collection

AGENCY: Employment and Training Administration, Labor.

ACTION: Notice.

SUMMARY: The Department of Labor, as part of its continuing effort to reduce paperwork and respondent burden, conducts a pre-clearance consultation program to provide the public and Federal agencies with an opportunity to comment on proposed and/or continuing collections of information in accordance with the Paperwork Reduction Act of 1995 (PRA) [44 U.S.C. 3505(c)(2)(A)]. PRA helps to ensure that requested data can be provided in the desired format, reporting burden (time and financial resources) is minimized, collection instruments are clearly understood, and the impact of the collection requirements on respondents can be properly assessed.

Currently, the Employment and Training Administration (ETA) is soliciting comments concerning the collection of survey data from employers in a sub-set of states that operate a STC Program. The STC Program provides an opportunity for employers to reduce layoffs by temporarily reducing work hours for some employees. STC provides pro-rated unemployment insurance benefits for workers whose hours of work have been temporarily reduced. The proposed information collection is to examine employers' experiences, awareness, and perspectives of the STC Program in Kansas, Minnesota, Rhode Island, and Washington, through surveying the employers in these four States who have used the STC program, as well as employers who have not used the program. The objective of the study is to understand employers' awareness and perceptions of the STC program, including how various elements of the program affect their interest and participation.

DATES: Written comments must be submitted to the office listed in the addresses section below on or before October 7, 2013.

ADDRESSES: Submit written comments to Gloribel Nieves-Cartagena, Office of Policy Development and Research, Room N5641, Employment and Training Administration, U.S. Department of Labor, 200 Constitution Avenue NW., Washington, DC 20210. Telephone number: 202-693-2771 (this is not a toll-free number). Individuals with hearing or speech impairments may access the telephone number above via TTY by calling the toll-free Federal Information Relay Service at 1-877-889-5627 (TTY/TDD). Fax: 202-693-2766. Email: nieves-cartagena.gloribel@dol.gov. A copy of the proposed information collection request (ICR) with applicable supporting documentation; including a description of likely respondents, proposed frequency of responses, and estimated total burden can be obtained free of charge by contacting the office listed above.

SUPPLEMENTARY INFORMATION:

I. Background

In February 2012, the Middle Class Tax Relief and Job Creation Act of 2012, was signed into law. Section 2164 requires the Secretary of Labor to survey employers in all States to determine their level of interest in participating in the STC Program. The proposed information collection is a preliminary step in support of complying with the 50-state survey requirement of Section 2164, and ETA is seeking approval to collect survey data from employers in four States with active STC.

The STC Program, also known as “work sharing” or “shared work”, provides an opportunity for employers to reduce layoffs by temporarily reducing work hours of some employees. STC provides pro-rated unemployment insurance (UI) benefits for workers whose hours of work have been temporarily reduced. The U.S. program was first initiated in California in 1978 and a temporary national STC Program was adopted in 1982 under the Tax Equity and Fiscal Responsibility Act (Pub. L. 97-248). The STC Program became permanent in Federal law in 1992, when States were permitted to adopt their own STC programs as part of State UI laws. Under Section 303(a)(5) of the Social Security Act and Section 3304(a)(4) of the Federal Unemployment Tax Act, STC benefits may be paid from monies available in the Unemployment Trust Fund. Each State has an account within the Fund from which it pays benefits. Currently, 25 States and the District of Columbia have STC provisions in their UI laws.

The proposed study will examine employers' experiences, awareness, and perspectives of the STC Program in Kansas, Minnesota, Rhode Island, and Washington. Each of these four States has an active STC program. Employers in these four States who have used the STC Program, as well as employers in these four States who have not used the program, will be surveyed. The study will focus on the following four research areas:

(1) Characteristics of employers participating in the STC Program.

(2) Extent of employer participation in the STC Program.

(3) Employers' awareness, experiences, and views of the STC Program.

(4) Employers' opinion about workers view of STC.

Addressing these research areas will involve analyses of survey data as well as analyses of relevant UI administrative data and employer survey data. UI administrative data and employer survey data will be used to gain knowledge about the employer's awareness and experience with the STC Program and to examine the factors related to the employer's decision to apply. The results of the analyses will help to assess whether there are significant differences in the likelihood of participation across employer characteristics.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: New Collection.

Title: Employers Survey of Short-Time Compensation Program.

OMB Number: 1205-0NEW.

Affected Public: Private Sector, Employers.

Data Collection Activity | Total respondents | Frequency | Total responses | Average time per respondent | Burden (hours)
Employer Survey of Short-Time Compensation | 3,200 | Once | 3,200 | 27 minutes | 1,440

Total Annual other Burden Cost for Respondents: $0.

Comments submitted in response to this comment request will be summarized and included in the request for Office of Management and Budget approval of the ICR; they will also become a matter of public record.

Dated: July 31, 2013.
Eric M. Seleznow,
Acting Assistant Secretary for Employment and Training, Labor.

[FR Doc. 2013-19063 Filed 8-6-13; 8:45 am]

BILLING CODE 4510-FN-P